ENVIRONMENTAL PROTECTION AGENCY

[EPA-HQ-OPP-2017-0751; FRL-9076-01-OCSPP]

Pesticide Registration Review; Interim Decisions and Case Closures for Several Pesticides; Notice of Availability

AGENCY: Environmental Protection Agency (EPA).

ACTION: Notice.

SUMMARY: This notice announces the availability of EPA's interim registration review decisions for the following chemicals: Amicarbazone; aminopyralid; azadirachtin, cold pressed neem oil and clarified hydrophobic neem oil; benzoic acid; endothall and salts; ethofumesate; fluoxastrobin; forchlorfenuron; gamma-cyhalothrin; inorganic halides; ipconazole; L-lactic acid; lambda-cyhalothrin; metam/MITC; metconazole; myclobutanil; novaluron; picloram; prometon; prothioconazole; and pyrasulfotole. In addition, it announces the closure of the registration review case for propazine.

FOR FURTHER INFORMATION CONTACT: For pesticide specific information, contact: The Chemical Review Manager for the pesticide of interest identified in the Table in Unit IV.

For general information on the registration review program, contact: Melanie Biscoe, Pesticide Re-evaluation Division (7508P), Office of Pesticide Programs, Environmental Protection Agency, 1200 Pennsylvania Ave. NW, Washington, DC 20460-0001; telephone number: (703) 305-7106; email address: biscoe.melanie@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed in the Table in Unit IV.

B. How can I get copies of this document and other related information?

The dockets these cases, identified by the docket identification (ID) number for the specific pesticide of interest provided in the Table in Unit IV., are available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim registration review decisions for the pesticides shown in the following table. The interim registration review decisions are supported by rationales included in the docket established for each chemical.

Table—Registration Review Interim Decisions Being Issued
Registration review case name and No. | Docket ID No. | Chemical review manager and contact information
Amicarbazone, Case Number 7262 | EPA-HQ-OPP-2015-0400 | Samantha Thomas, thomas.samantha@epa.gov, (703) 347-0514.
Aminopyralid, Case Number 7267 | EPA-HQ-OPP-2013-0749 | Rachel Stephenson, stephenson.rachel@epa.gov, (703) 347-8904.
Azadirachtin, Cold Pressed Neem Oil, and Clarified Hydrophobic Neem Oil, Case Number 6021 | EPA-HQ-OPP-2008-0632 | Joseph Mabon, mabon.joseph@epa.gov, (703) 347-0177.
Benzoic Acid, Case Number 5107 | EPA-HQ-OPP-2010-0692 | Megan Snyderman, snyderman.megan@epa.gov, (703) 347-0671.
Endothall and Salts, Case Number 2245 | EPA-HQ-OPP-2015-0591 | Robert Little, little.robert@epa.gov, (703) 347-8156.
Ethofumesate, Case Number 2265 | EPA-HQ-OPP-2015-0406 | James Douglass, douglass.james@epa.gov, (703) 347-8630.
Fluoxastrobin, Case Number 7044 | EPA-HQ-OPP-2015-0295 | Rachel Fletcher, fletcher.rachel@epa.gov, (703) 347-0512.
Forchlorfenuron, Case Number 7057 | EPA-HQ-OPP-2014-0641 | Srijana Shrestha, shrestha.srijana@epa.gov, (703) 305-6471.
Gamma-cyhalothrin, Case Number 7437 | EPA-HQ-OPP-2010-0479 | Darius Stanton, stanton.darius@epa.gov, (703) 347-0433.
Inorganic halides, Case Number 4051 | EPA-HQ-OPP-2009-0168 | Erin Dandridge, dandridge.erin@epa.gov, (703) 347-0185.
Ipconazole, Case Number 7041 | EPA-HQ-OPP-2015-0590 | Alex Hazlehurst, hazlehurst.alexander@epa.gov, (703) 347-0221.
L-lactic Acid, Case Number 6062 | EPA-HQ-OPP-2020-0552 | SanYvette Williams, williams.sanyvette@epa.gov, (703) 305-7702.
Lambda-cyhalothrin, Case number 7408 | EPA-HQ-OPP-2010-0480 | Darius Stanton, stanton.darius@epa.gov, (703) 347-0433.
Metam/MITC, Case Number 2390 & 2405 | EPA-HQ-OPP-2013-0140 & EPA-HQ-OPP-2013-0242 | Tiffany Green, green.tiffany@epa.gov, (703) 347-0314.
Metconazole, Case Number 7049 | EPA-HQ-OPP-2015-0013 | Samantha Thomas, thomas.samantha@epa.gov, (703) 347-0514.
Myclobutanil, Case Number 7006 | EPA-HQ-OPP-2015-0053 | Anitha Kisanga, kisanga.anitha@epa.gov, (703) 347-0540.
Novaluron Case Number 7615 | EPA-HQ-OPP-2015-0171 | Robert Little, little.robert@epa.gov, (703) 347-8156.
Picloram, Case Number 0096 | EPA-HQ-OPP-2013-0740 | Andy Muench, muench.andrew@epa.gov, (703) 347-8263.
Prometon, Case Number 2545 | EPA-HQ-OPP-2013-0068 | Carolyn Smith, smith.carolyn@epa.gov, (703) 347-8325.
Prothioconazole, Case Number 7054 | EPA-HQ-OPP-2015-0474 | Rachel Eberius, eberius.rachel@epa.gov, (703) 347-0492.
Pyrasulfotole, Case Number 7272 | EPA-HQ-OPP-2016-0391 | James Douglass, douglass.james@epa.gov, (703) 347-8630.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

This document also announces the closure of the registration review case for propazine (Case Number 0230, Docket ID Number EPA-HQ-OPP-2013-0250) because the last U.S. registrations for these pesticides have been canceled.

Background on the registration review program is provided at: http://www.epa.gov/pesticide-reevaluation.

(Authority: 7 U.S.C. 136 et seq.)

Dated: October 18, 2021.
Mary Elissa Reaves,
Director, Pesticide Re-Evaluation Division, Office of Pesticide Programs.

[FR Doc. 2021-23041 Filed 10-21-21; 8:45 am]

BILLING CODE 6560-50-P